DEPARTMENT OF ENERGY

Federal Energy Regulatory Commission

Notice of Filings

May 25, 2005.

Take notice that the Commission received the following electric rate filings.

Docket Numbers: ER03-9-005; ER98-2157-006.

Applicants: Westar Energy, Inc. and Kansas Gas and Electric Company.

Description: Westar Energy, Inc. and Kansas Gas and Electric Company submits a mitigation proposal tailored to Westar's particular circumstances that will eliminate their ability to exercise market power control areas of Westar, Midwest Energy, Inc etc under ER03-9.

Filed Date: 05/23/2005.

Accession Number: 20050525-0006.

Comment Date: 5 p.m. Eastern Time on Monday, June 13, 2005.

Docket Numbers: ER04-1069-001.

Applicants: American Transmission Systems, Incorporated.

Description: American Transmission Systems, Incorporated submits Substitute First Revised Sheet 16A to FERC Electric Tariff, Third Revised Volume 1 under ER04-1069.

Filed Date: 05/20/2005.

Accession Number: 20050524-0112.

Comment Date: 5 p.m. Eastern Time on Friday, June 10, 2005.

Docket Numbers: ER05-428-002;

Applicants: New York Independent System Operator, Inc.

Description: New York Independent System Operator, Inc submits Third Revised Sheet 156B et al to FERC Electric Tariff, Original Volume 2 to be effective 3/9/05 under ER05-428.

Filed Date: 05/20/2005.

Accession Number: 20050524-0149.

Comment Date: 5 p.m. Eastern Time on Friday, June 10, 2005.

Docket Numbers: ER05-463-002.

Applicants: Mendota Hills, LLC.

Description: Mendota Hills, LLC submits a compliance filing pursuant to the letter order issued by FERC on 3/3/05 granting their request for market-based rate authority under ER05-463.

Filed Date: 05/20/2005.

Accession Number: 20050524-0119.

Comment Date: 5 p.m. Eastern Time on Friday, June 10, 2005.

Docket Numbers: ER05-569-001.

Applicants: Midwest Independent Transmission System Operator, Inc. on behalf of Indianapolis Power & Light Company.

Description: Midwest Independent Transmission System Operator, Inc et al submits the Second Amended and Restated Interconnection Operating and Maintenance Agreement with DTE Georgetown, LP and Midwest ISO under ER05-569.

Filed Date: 05/20/2005.

Accession Number: 20050524-0075.

Comment Date: 5 p.m. Eastern Time on Friday, June 10, 2005.

Docket Numbers: ER05-752-001.

Applicants: Midwest Independent Transmission System Operator, Inc. and PJM Interconnection, L.L.C.

Description: PJM Interconnection, LLC and Midwest Independent Transmission System Operator, Inc submits their responses to FERC's 5/6/05 information request under ER05-752.

Filed Date: 05/20/2005.

Accession Number: 20050524-0118.

Comment Date: 5 p.m. Eastern Time on Friday, June 10, 2005.

Docket Numbers: ER05-993-000.

Applicants: Entergy Services, Inc.

Description: Entergy Services, Inc on behalf the Entergy Operating Companies submits First Revised Sheet 120 and 121 to FERC Electric Tariff, Second Revised Volume 3, pursuant to Section 205 of the Federal Power Act etc under ER05-993.

Filed Date: 05/20/2005.

Accession Number: 20050524-0116.

Comment Date: 5 p.m. Eastern Time on Friday, June 10, 2005.

Docket Numbers: ER05-994-000.

Applicants: Florida Power & Light Company.

Description: Florida Power & Light Co submits Original Sheet 505 to FERC Electric Tariff, Volume 8 under ER05-994.

Filed Date: 05/20/2005.

Accession Number: 20050524-0113.

Comment Date: 5 p.m. Eastern Time on Friday, June 10, 2005.

Docket Numbers: ER05-995-000.

Applicants: MidAmerican Energy Company.

Description: MidAmerican Energy Co submits notices of cancellation of Agreements with Electric and Water Utility Board of the City of Eldridge, Iowa pursuant to 18 CFR 35.15 and 131.53 under ER05-995.

Filed Date: 05/20/2005.

Accession Number: 20050524-0114.

Comment Date: 5 p.m. Eastern Time on Friday, June 10, 2005.

Docket Numbers: ER05-996-000.

Applicants: NJR Energy Services Company.

Description: NJR Energy Services Co submits a notice of cancellation of its FERC Electric Rate Schedule 1, pursuant to 18 CFR 35.15 under ER05-996.

Filed Date: 05/20/2005.

Accession Number: 20050524-0115.

Comment Date: 5 p.m. Eastern Time on Friday, June 10, 2005.

Docket Numbers: ER05-997-000.

Applicants: Cook Inlet Power, L.P.

Description: Cook Inlet Power, LP submits a Notice of Cancellation of its market-based rate tariff, FERC Rate Schedule 1, to be effective 5/20/05 under ER05-997.

Filed Date: 05/20/2005.

Accession Number: 20050524-0151.

Comment Date: 5 p.m. Eastern Time on Friday, June 10, 2005.

Docket Numbers: ER05-998-000.

Applicants: Cook Inlet Energy Supply L.L.C.

Description: Cook Inlet Energy Supply, LLC submits a Notice of Cancellation of its market-based rate tariff, FERC Rate Schedule 1, to be effective 5/20/05 under ER05-998.

Filed Date: 05/20/2005.

Accession Number: 20050524-0150.

Comment Date: 5 p.m. Eastern Time on Friday, June 10, 2005.

Docket Numbers: ER95-1441-021.

Applicants: ConocoPhillips Company.

Description: Triennial Market Power Analysis of ConocoPhillips Company, as well as revisions to its market-based rate schedule under ER95-1441.

Filed Date: 05/20/2005.

Accession Number: 20050524-0117.

Comment Date: 5 p.m. Eastern Time on Friday, June 10, 2005.

Docket Numbers: ER05-902-001.

Applicants: Virginia Electric and Power Company.

Description: Virginia Electric and Power Co dba Dominion Virginia Power submits Substitute Original Sheet 4 to Third Revised FERC Rate Schedule 132 under ER05-902.

Filed Date: 05/19/2005.

Accession Number: 20050523-0149.

Comment Date: 5 p.m. Eastern Time on Thursday, June 09, 2005.

Docket Numbers: ER05-1009-000.

Applicants: MidAmerican Energy Company.

Description: MidAmerican submits a Facilities Agreement with the City of Ames, Iowa dated 4/26/05 under ER05-1009.

Filed Date: 05/23/2005.

Accession Number: 20050525-0003.

Comment Date: 5 p.m. Eastern Time on Monday, June 13, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlinSupport@ferc.gov. or call (866) 208-3676 (toll free). For TTY, call (202) 502-8659.

Linda Mitry,
Deputy Secretary.

[FR Doc. E5-2791 Filed 6-1-05; 8:45 am]

BILLING CODE 6717-01-P